DEPARTMENT OF THE INTERIOR

National Park Service

[NPS-WASO-NAGPRA-NPS0037537; PPWOCRADN0-PCU00RP14.R50000]

Notice of Inventory Completion: Michigan History Center, Lansing, MI

AGENCY: National Park Service, Interior.

ACTION: Notice.

SUMMARY: In accordance with the Native American Graves Protection and Repatriation Act (NAGPRA), the Michigan History Center has completed an inventory of human remains and associated funerary objects and has determined that there is a cultural affiliation between the human remains and associated funerary objects and Indian Tribes in this notice. The human remains and associated funerary objects were removed from Allen County, IN.

DATES: Repatriation of the human remains and associated funerary objects in this notice may occur on or after April 5, 2024.

ADDRESSES: Tobi Voigt, Director of Museums, Michigan History Center, 702 W. Kalamazoo St., Lansing, MI 48915, telephone (517) 243-4041, email VoigtT@Michigan.gov.

SUPPLEMENTARY INFORMATION: This notice is published as part of the National Park Service's administrative responsibilities under NAGPRA. The determinations in this notice are the sole responsibility of the Michigan History Center. The National Park Service is not responsible for the determinations in this notice. Additional information on the determinations in this notice, including the results of consultation, can be found in the inventory or related records held by the Michigan History Center.

Description

Human remains representing, at minimum, one individual were removed from Allen County, IN. On an unknown date in 1912, Joseph Edinger was said to have excavated the burial site of the Miami leader, Little Turtle. A braid of hair with silver buckles was donated to the Michigan History Center. According to the Michigan History Center's records, most of what Edinger excavated from the burial site was said to have been donated to the Smithsonian Museum in Washington, DC, but this is unconfirmed, and no further details are known. The one associated funerary object is one lot of silver buckles.

Cultural Affiliation

The human remains and associated funerary objects in this notice are connected to one or more identifiable earlier groups, tribes, peoples, or cultures. There is a relationship of shared group identity between the identifiable earlier groups, tribes, peoples, or cultures and one or more Indian Tribes. The following types of information were used to reasonably trace the relationship: historical information, other relevant information, or expert opinion.

Lineal Descent

The human remains and associated funerary objects in this notice are connected to an identifiable individual whose descendants can be traced directly and without interruption by means of a traditional kinship system or by the common law system of descendance. The following types of information were used to reasonably trace the relationship: historical information, other relevant information, or expert opinion.

Determinations

Pursuant to NAGPRA and its implementing regulations, and after consultation with the appropriate Indian Tribes, the Michigan History Center has determined that:

• The human remains described in this notice represent the physical remains of one individual of Native American ancestry.

• The one lot of objects described in this notice are reasonably believed to have been placed with or near individual human remains at the time of death or later as part of the death rite or ceremony.

• There is a relationship of shared group identity that can be reasonably traced between the human remains and associated funerary objects described in this notice to Daryl Baldwin (Miami Tribe of Oklahoma) and Scott Willard (Miami Tribe of Oklahoma).

Requests for Repatriation

Written requests for repatriation of the human remains and associated funerary objects in this notice must be sent to the Responsible Official identified in ADDRESSES. Requests for repatriation may be submitted by:

1. Any one or more of the Indian Tribes identified in this notice.

2. Any lineal descendant or Indian Tribe not identified in this notice who shows, by a preponderance of the evidence, that the requestor is a lineal descendant or a culturally affiliated Indian Tribe.

Repatriation of the human remains and associated funerary objects in this notice to a requestor may occur on or after April 5, 2024. If competing requests for repatriation are received, the Michigan History Center must determine the most appropriate requestor prior to repatriation. Requests for joint repatriation of the human remains and associated funerary object are considered a single request and not competing requests. The Michigan History Center is responsible for sending a copy of this notice to the Indian Tribes identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 27, 2024.
Melanie O'Brien,
Manager, National NAGPRA Program.

[FR Doc. 2024-04667 Filed 3-5-24; 8:45 am]

BILLING CODE 4312-52-P